DEPARTMENT OF LABOR

Employment and Training Administration

[TA-W-70,295]

Ultimizers, Inc., Boring, OR; Notice of Revised Determination on Reconsideration

By application dated September 21, 2009, a company official requested administrative reconsideration of the Department's negative determination regarding eligibility for workers and former workers of Ultimizers, Inc., Boring, Oregon (subject firm) to apply for Trade Adjustment Assistance (TAA). The Department's Notice of Affirmative Determination Regarding Application for Reconsideration was signed on October 15, 2009, and published in the Federal Register on October 27, 2009 (74 FR 55261).

The initial investigation resulted in a negative determination issued on September 9, 2009, was based on the finding that imports of optimizing lumber cut-off saws, feeders, sorters and scanners did not contribute importantly to worker separations at the subject firm and no shift in production to a foreign source occurred.

To support the request for reconsideration, the petitioner supplied additional information regarding lost bids by the subject firm during the relevant period. The Department of Labor conducted a bid survey of the domestic firms to which the subject facility was the lowest domestic bidder. The results of the survey revealed that the bids were awarded to foreign producers. The loss of these contracts contributed importantly to the declines in sales and employment at the subject firm. The investigation further revealed that sales, production and employment at the subject firm declined during the relevant period.

Conclusion

After careful review of the additional facts obtained on reconsideration, I determine that workers of Ultimizers, Inc., Boring, Oregon, who are engaged in activities related to the production of parts feeding and assembly equipment meet the worker group certification criteria under Section 222(a) of the Act, 19 U.S.C. 2272(a). In accordance with Section 223 of the Act, 19. U.S.C. 2273, I make the following certification:

All workers of Ultimizers, Inc., Boring, Oregon, who became totally or partially separated from employment on or after May 18, 2008, through two years from the date of this certification, and all workers in the group threatened with total or partial separation from employment on date of certification through two years from the date of certification, are eligible to apply for adjustment assistance under Chapter 2 of Title II of the Trade Act of 1974, as amended.

Signed in Washington, DC, this 10th day of December 2009.
Del Min Amy Chen,
Certifying Officer, Division of Trade Adjustment Assistance.

[FR Doc. E9-30256 Filed 12-18-09; 8:45 am]

BILLING CODE 4510-FN-P